VETERANS AFFAIRS DEPARTMENT

[OMB Control No. 2900-0654]

Agency Information Collection Activity Under OMB Review: Annual Certification of Veteran Status and Veteran Relatives

AGENCY: Veterans Benefits Administration, Department of Veterans Affairs (VA).

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Comments must be submitted on or before May 12, 2017.

ADDRESSES: Submit written comments on the collection of information through www.Regulations.gov, or to Office of Information and Regulatory Affairs, Office of Management and Budget, Attn: VA Desk Officer; 725 17th St. NW., Washington, DC 20503 or sent through electronic mail to oira_submission@omb.eop.gov. Please refer to “OMB Control No. 2900-0500” in any correspondence.

FOR FURTHER INFORMATION CONTACT: Cynthia Harvey-Pryor, Enterprise Records Service (005R1B), Department of Veterans Affairs, 810 Vermont Avenue NW., Washington, DC 20420, (202) 461-5870 or email cynthia.harvey-pryor@va.gov. Please refer to “OMB Control No. 2900-0500” in any correspondence.

SUPPLEMENTARY INFORMATION:

Authority: 44 U.S.C. 3501-21.

Title: Annual Certification of Veteran Status and Veteran relatives (VA Form 20-0344).

OMB Control Number: 2900-0654.

Type of Review: Revision of a currently approved collection.

Abstract: VA Form 20-0344 is completed by VBA employees, non-VBA employees in VBA space and Veteran Service Organization (VSO) employees who have access to benefit records. These individuals are required to provide personal identifying information for themselves and any veteran relatives, so VA is able to identify and properly protect these benefit records.

An agency may not conduct or sponsor, and a person is not required to respond to a collection of information unless it displays a currently valid OMB control number. The Federal Register Notice with a 60-day comment period soliciting comments on this collection of information was published at 82 FR 7918 on January 23, 2017.

Affected Public: Individuals or Households.

Estimated Annual Burden: 14,000 hours.

Estimated Average Burden per Respondent: 10 minutes.

Frequency of Response: One time.

Estimated Number of Respondents: 5,834.

By direction of the Secretary.
Cynthia Harvey-Pryor,
Department Clearance Officer, Enterprise Records Service, Office of Quality and Compliance, Department of Veterans Affairs.

[FR Doc. 2017-07396 Filed 4-11-17; 8:45 am]

BILLING CODE 8320-01-P